DEPARTMENT OF ENERGY

Federal Energy Regulatory Commission

[Project No. 12615-001]

Alaska Power & Telephone Company; Notice of Scoping Meeting and Soliciting Scoping Comments for an Applicant Prepared Environmental Assessment Using the Alternative Licensing Procedures

May 15, 2008.

a. Type of Application: Alternative Licensing Procedures.

b. Project No.: 12615-001.

c. Applicant: Alaska Power & Telephone Company.

d. Name of Project: Soule River Hydroelectric Project.

e. Location: On the Soule River, tributary to Portland Canal, approximately 9 miles south of the community of Hyder, Alaska. The project would occupy approximately 1,112 acres of federal lands within the Tongass National Forest, administered by the U.S. Forest Service.

f. Filed Pursuant to: Federal Power Act, 16 U.S.C. 791(a)-825(r).

g. Applicant Contact: Glen Martin, Project Manager, Alaska Power & Telephone Company, 193 Otto Street, P.O. Box 3222, Port Townsend, Washington 98368, (360) 385-1733 X 122, glen.m@aptalaska.com.

h. FERC Contact: Matt Cutlip, phone at (503) 552-2762; e-mail at matt.cutlip@ferc.gov.

i. Deadline for filing scoping comments: July 21, 2008.

All documents (original and eight copies) should be filed with: Kimberly D. Bose, Secretary, Federal Energy Regulatory Commission, 888 First Street, NE., Washington, DC 20426.

The Commission's Rules of Practice and Procedure require all intervenors filing documents with the Commission to serve a copy of that document on each person on the official service list for the project. Further, if an intervenor files comments or documents with the Commission relating to the merits of an issue that may affect the responsibilities of a particular resource agency, they must also serve a copy of the document on that resource agency.

Scoping comments may be filed electronically via the Internet in lieu of paper. The Commission strongly encourages electronic filings. See 18 CFR 385.2001(a)(1)(iii) and the instructions on the Commission's Web site (http://www.ferc.gov) under the “e-Filing” link.

j. The proposed project would consist of: (1) A 1,000-foot-long, 160-foot-high concrete-faced, rock-fill dam; (2) an impoundment with a 950-acre surface area at a full pool elevation of 550 feet mean sea level; (3) a 2.5-mile-long, 14-foot-wide access road from the dam to the marine access facilities, with a 100-foot-long bridge across the Soule River; (4) marine access facilities along the Portland Canal near the mouth of the Soule River; (5) an 18-foot-diameter 11,100-foot-long power tunnel; (6) a 50-foot by 120-foot powerhouse containing two Francis-type generating units, having a total installed capacity of 75,000 kilowatts; (7) a tailrace within the tidewater area of the Soule River confluence with Portland Canal; (8) a 10.5-mile-long, 138 kilovolt (kV) submarine cable and a 0.5-mile-long 138 kV overhead transmission line that would interconnect in Stewart, British Columbia with British Columbia Transmission Corporation's existing electrical transmission system; ¹ and (9) appurtenant facilities.

¹ Only the portion of the transmission line that would be located in the United States is under the Commission's jurisdiction.

k. Scoping Process

Alaska Power & Telephone Company (AP&T) is utilizing the Commission's alternative licensing procedures (ALP). Under the ALP, AP&T will prepare an Applicant-Prepared Environmental Assessment (APEA) and license application for the Soule River Hydroelectric Project.

AP&T expects to file, with the Commission, the APEA and the license application for the Soule River Hydroelectric Project by June 30, 2009. Although AP&T's intent is to prepare an APEA, there is the possibility that an Environmental Impact Statement (EIS) will be required. Nevertheless, this meeting will satisfy the scoping requirements, pursuant to the National Environmental Policy Act of 1969, as amended, irrespective of whether an EA or EIS is issued by the Commission.

The purpose of this notice is to inform you of the opportunity to participate in the upcoming scoping meetings identified below, and to solicit your scoping comments.

Scoping Meetings

AP&T and the Commission staff will hold two scoping meetings, one in the daytime and one in the evening, to help us identify the scope of issues to be addressed in the APEA.

The daytime scoping meeting will focus on resource agency concerns, while the evening scoping meeting is primarily for public input. All interested agencies, Indian tribes, individuals, and organizations are invited to attend one or both of the meetings, and to assist staff in identifying the environmental issues that should be analyzed in the APEA. The times and locations of these meetings are as follows:

Daytime Meeting

Tuesday, June 17, 2008, 9 a.m. (PST), Federal Building, 709 W. 9th Street, First Floor, Room #150, Juneau, Alaska.

Evening Meeting

Thursday, June 19, 2008, 7 p.m. to 9 p.m. (PST), Public Library—Hyder Community Center, Main Street, Hyder, Alaska,

Site Visit

AP&T, Commission staff, and state and federal resource agencies will participate in an aerial tour of the project site on Thursday, June 19, 2008. Anyone with questions about the aerial tour should contact Glen Martin, AP&T, at (360) 385-1733 x122. Those individuals planning to participate in the aerial tour should notify Mr. Martin of their intent no later than May 19, 2008.

To help focus discussions, Scoping Document 1 (SD1) was mailed in May 2008, outlining the subject areas to be addressed in the APEA to the parties on the mailing list. Copies of the SD1 also will be available at the scoping meetings. SD1 is available for review at the Commission in the Public Reference Room or may be viewed on the Commission's Web site at http://www.ferc.gov using the “eLibrary” link. Enter the docket number excluding the last three digits in the docket number field to access the document. For assistance, contact FERC Online Support at FERCOnlineSupport@ferc.gov or toll-free at 1-866-208-3676, or for TTY, (202) 502-8659.

You may also register online at http://www.ferc.gov/docs-filing/esubscription.asp to be notified via e-mail of new filings and issuances related to this or other pending projects. For assistance, contact FERC Online Support.

Based on all written comments received, a Scoping Document 2 (SD2) may be issued. SD2 will include a revised list of issues, based on the scoping meetings.

Objectives

At the scoping meetings, staff will: (1) Summarize the environmental issues tentatively identified for analysis in the APEA; (2) solicit from the meeting participants all available information, especially quantifiable data, on the resources at issue; (3) encourage statements from experts and the public on issues that should be analyzed in the APEA, including viewpoints in opposition to, or in support of, staff's preliminary views; (4) determine the resource issues to be addressed in the APEA; and (5) identify those issues that require a detailed analysis, as well as those issues that do not require a detailed analysis.

Procedures

The meetings will be recorded by a stenographer and will become part of the formal record of the Commission proceeding for the project.

Individuals, organizations, agencies, and Indian tribes with environmental expertise and concerns are encouraged to attend the meetings and to assist AP&T and Commission staff in defining and clarifying the issues to be addressed in the APEA.

Kimberly D. Bose,
Secretary.

[FR Doc. E8-11506 Filed 5-21-08; 8:45 am]

BILLING CODE 6717-01-P